DEPARTMENT OF THE INTERIOR

National Park Service

[NPS-WASO-NAGPRA-NPS0035565; PPWOCRADN0-PCU00RP14.R50000]

Notice of Inventory Completion: Schiele Museum of Natural History, Gastonia, NC

AGENCY: National Park Service, Interior.

ACTION: Notice.

SUMMARY: In accordance with the Native American Graves Protection and Repatriation Act (NAGPRA), the Schiele Museum of Natural History (SMNH) has completed an inventory of human remains and has determined that there is a cultural affiliation between the human remains and Indian Tribes or Native Hawaiian organizations in this notice. The human remains were removed from Gaston County, NC.

DATES: Repatriation of the human remains in this notice may occur on or after April 28, 2023.

ADDRESSES: Carrie Duran, Schiele Museum of Natural History, 1500 E Garrison Blvd., Gastonia, NC 28054, telephone (704) 869-1009, email carrie.duran@gastonianc.com.

SUPPLEMENTARY INFORMATION: This notice is published as part of the National Park Service's administrative responsibilities under NAGPRA. The determinations in this notice are the sole responsibility of SMNH. The National Park Service is not responsible for the determinations in this notice. Additional information on the determinations in this notice, including the results of consultation, can be found in the inventory or related records held by SMNH.

Description

Human remains representing, at minimum, three individuals were removed from Gaston County, NC. In 1986, Dr. Janet E. Levy and Dr. A. Lee Novick excavated human remains belonging to a female, 35-50 years old, from site 31GS30 (also known as the Lafar Site). In 1985, Robert A. Pace excavated human remains belonging to a male, 45-50 years old, from site 31GS55 (also known as the Penegar Site). In 1983, David G. Moore excavated human remains belonging to a female, 35-39 years old, from site 31GS55. The human remains of all three individuals were excavated by the Schiele Museum under the direction of Dr. J. Alan May and with approval of the North Carolina Commission on Indian Affairs. No known individuals were identified. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, biological, geographical, historical, and oral traditional.

Determinations

Pursuant to NAGPRA and its implementing regulations, and after consultation with the appropriate Indian Tribes and Native Hawaiian organizations, SMNH has determined that:

• The human remains described in this notice represent the physical remains of three individuals of Native American ancestry.

• There is a relationship of shared group identity that can be reasonably traced between the human remains described in this notice and the Catawba Indian Nation.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after April 28, 2023. If competing requests for repatriation are received, SMNH must determine the most appropriate requestor prior to repatriation. Requests for joint repatriation of the human remains are considered a single request and not competing requests. SMNH is responsible for sending a copy of this notice to the Indian Tribe identified in this notice.

Authority: Native American Graves Protection and Repatriation Act, 25 U.S.C. 3003, and the implementing regulations, 43 CFR 10.9, 10.10, and 10.14.

Dated: March 22, 2023.
Melanie O'Brien,
Manager, National NAGPRA Program.

[FR Doc. 2023-06478 Filed 3-28-23; 8:45 am]

BILLING CODE 4312-52-P